DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, not later than March 7, 2011.

Interested persons are invited to submit written comments regarding the subject matter of the investigations to the Director, Office of Trade Adjustment Assistance, at the address shown below, not later than March 7, 2011.

The petitions filed in this case are available for inspection at the Office of the Director, Office of Trade Adjustment Assistance, Employment and Training Administration, U.S. Department of Labor, Room N-5428, 200 Constitution Avenue, NW., Washington, DC 20210.

Signed at Washington, DC, this 14th day of February 2011.
Elliott S. Kushner,
Certifying Officer, Office of Trade Adjustment Assistance.

APPENDIX
[66 TAA petitions instituted between 2/7/11 and 2/11/11]
TA-W | Subject firm (petitioners) | Location | Date of institution | Date of petition
75179 | Stratus Technologies (State/One-Stop) | Maynard, MA | 02/07/11 | 02/03/11
75180 | CPL (Company) | Buffalo, NY | 02/07/11 | 02/04/11
75181 | Sony DADC (State/One-Stop) | Pitman, NJ | 02/08/11 | 02/07/11
75182 | Union Apparel, Inc. (Workers) | Norvelt, PA | 02/08/11 | 02/04/11
75183 | Reynolds Food Packaging (Workers) | Grove City, PA | 02/08/11 | 01/26/11
75184 | Maine Military Authority (Workers) | Augusta, ME | 02/08/11 | 02/03/11
75185 | ZEPF Community Mental Health (Workers) | Toledo, OH | 02/08/11 | 02/07/11
75186 | Stanley Black & Decker (Company) | Jackson, TN | 02/08/11 | 02/07/11
75187 | Dex One (Workers) | Morrisville, NC | 02/08/11 | 02/03/11
75188 | Dell (Workers) | Tulsa, OK | 02/08/11 | 02/07/11
75189 | Roche Carolina, Inc. (Company) | Florence, SC | 02/08/11 | 02/07/11
75190 | Compucredit Corporation (Company) | Atlanta, GA | 02/09/11 | 02/08/11
75191 | Faribault Woolen Mill Company (State/One-Stop) | Faribault, MN | 02/09/11 | 02/08/11
75192 | Core Industries Inc. (Company) | Irvine, CA | 02/09/11 | 02/08/11
75193 | TydenBrooks Security Product Group (Workers) | Newton, NJ | 02/09/11 | 02/08/11
75194 | Weyerhaeuser Company NR (Company) | Zwolle, LA | 02/09/11 | 02/07/11
75195 | Weyerhaeuser Company (Company) | Albany, OR | 02/09/11 | 02/07/11
75196 | PriceWaterhouseCoopers, LLC (State/One-Stop) | St. Louis, MO | 02/09/11 | 02/08/11
75197 | Regence Blue Cross Blue Shield (State/One-Stop) | Salt Lake City, UT | 02/09/11 | 02/08/11
75198 | ACS Outsourcing, Inc. (Workers) | Pittsburgh, PA | 02/09/11 | 02/08/11
75199 | Dell Incorporated (Workers) | Round Rock, TX | 02/09/11 | 02/08/11
75200 | RBC Manufacturing Corporation (Company) | West Plains, MO | 02/10/11 | 02/09/11
75201 | Abbott Laboratories (State/One-Stop) | Irving, TX | 02/10/11 | 02/09/11
75202 | Welco Technologies (Workers) | Maysville, KY | 02/10/11 | 02/09/11
75203 | Sigue Corporation (Company) | Sylmar, CA | 02/10/11 | 02/07/11
75204 | ArcelorMittal Harriman (Union) | Harriman, TN | 02/10/11 | 02/09/11
75205 | The Connection (State/One-Stop) | Holdrege, NE | 02/10/11 | 02/04/11
75206 | Hewlett Packard (State/One-Stop) | Paducah, KY | 02/10/11 | 02/08/11
75207 | The Pierce Company (Company) | Upland, IN | 02/10/11 | 02/09/11
75208 | Apex Industries, Inc. (Company) | Spokane Valley, WA | 02/10/11 | 02/08/11
75209 | Rayon Fabrics Corporation (Company) | Allentown, PA | 02/10/11 | 02/09/11
75210 | PricewaterhouseCoopers, LLC (Worker) | Tampa, FL | 02/10/11 | 02/08/11
75211 | USAirways (Workers) | Cheektowaga, NY | 02/10/11 | 02/09/11
75212 | Burnand & Co. Incorporated (Workers) | Nogales, AZ | 02/10/11 | 02/09/11
75213 | The Hartford Financial Services (Workers) | Hartford, CT | 02/11/11 | 02/04/11
75214 | Foodswing, Inc. (State/One-Stop) | Cambridge, MD | 02/11/11 | 02/10/11
75215 | Fidelity (State/One-Stop) | Westlake, TX | 02/11/11 | 02/10/11
75216 | Russell Newman Brands (Company) | New York, NY | 02/11/11 | 02/10/11
75217 | MEMC Electronic Materials (State/One-Stop) | St. Peters, MO | 02/11/11 | 02/10/11
75218 | International Automotive Components, North America (Union) | Lebanon, VA | 02/11/11 | 02/09/11
75219 | United Parcel Service (Company) | West Columbia, SC | 02/11/11 | 02/08/11
75220 | Tinder Box Trading Co. (Company) | Mayfield, KY | 02/11/11 | 02/10/11
75221 | Quad Graphics (State/One-Stop) | Lebanon, OH | 02/11/11 | 02/10/11
75222 | American Standard America, Inc. (Union) | Salem, OH | 02/11/11 | 02/09/11
75223 | Global Suspension Systems (Workers) | Bryan, OH | 02/11/11 | 02/07/11
75224 | Tetra Pak, Inc. (State/One-Stop) | Minneapolis, MN | 02/11/11 | 02/10/11
75225 | ECI Telecom (Workers) | Pittsburgh, PA | 02/11/11 | 02/03/11
75226 | Wells Fargo & Company (State/One-Stop) | Kansas City, MO | 02/11/11 | 02/09/11
75227 | Dana Corporation (State/One-Stop) | Longview, TX | 02/11/11 | 02/10/11
75228 | Funtees (Company) | Concord, NC | 02/11/11 | 02/10/11
75229 | HC Starck (CST) (Workers) | Coldwater, MI | 02/11/11 | 02/04/11
75230 | Evergreen Solar (State/One-Stop) | Marlborough, MA | 02/11/11 | 02/10/11
75231 | Comcast Corporation (Workers) | Nashville, TN | 02/11/11 | 02/10/11
75232 | Travelers Insurance (Workers) | Knoxville, TN | 02/11/11 | 02/10/11
75233 | Peak Oilfield Service Company (Company) | Anchorage, AK | 02/11/11 | 02/10/11
75234 | Stanley Black & Decker (Company) | Jackson, TN | 02/11/11 | 02/08/11
75235 | Verizon Business (State/One-Stop) | Ashburn, VA | 02/11/11 | 02/10/11
75236 | Silberline Manufacturing Company, Inc. (Company) | Tamaqua, PA | 02/11/11 | 02/09/11
75237 | ComDel Innovation (Company) | Wahpeton, ND | 02/11/11 | 02/09/11
75238 | NcNeil (Workers) | Fort Washington, PA | 02/11/11 | 01/11/11
75239 | Superior Fibers (Workers) | Bremen, OH | 02/11/11 | 02/01/11
75240 | IBM Corporation (State/One-Stop) | Milwaukee, WI | 02/11/11 | 02/10/11
75241 | Tyco Electronics (State/One-Stop) | Eden Prairie, MN | 02/11/11 | 02/10/11
75242 | Sensomatic Electronics, LLC (Company) | Boca Raton, FL | 02/11/11 | 02/10/11
75243 | Ansley Inc. (Company) | Bonners Ferry, ID | 02/11/11 | 02/10/11
75244 | Carrier Corporation (Union) | Tyler, TX | 02/11/11 | 02/10/11

[FR Doc. 2011-4089 Filed 2-23-11; 8:45 am]

BILLING CODE 4510-FN-P